NATIONAL SCIENCE FOUNDATION

Proposal Review Panel for Materials Research; Notice of Meeting

In accordance with the Federal Advisory Committee Act (Pub. L. 92-463, as amended), the National Science Foundation (NSF) announces the following meeting:

Name and Committee Code: Oversight Review of the Center for High Energy Science at Cornell University and the Midscale RI2 Project for High Magnetic Field Beamline Project (#1203).

Date and Time:

October 25-26, 2022; 8:00 a.m.-6:00 p.m.

October 27, 2022; 8:00 a.m.-3:00 p.m.

Place: Cornell University, Physical Sciences Building, 245 Feeney Way, Room 401, Ithaca, NY 14853/On-site & Virtual.

Type of Meeting: Part-open.

Contact Person: Dr. Guebre X. Tessema, Program Director, Division of Materials Research, National Science Foundation, 2415 Eisenhower Avenue, Alexandria, VA 22314; Telephone: (703) 292-4935.

Purpose of Meeting: Hybrid (On-site & Virtual) site visit to provide advice and recommendations concerning progress and performance of CHEXS and HMF projects.

Agenda: Open sessions include science presentations by the facility and project staff.

Tuesday, October 25, 2022

8:30 a.m.-12:00 p.m. CHEXS Review (OPEN)

12:00 p.m.-1:00 p.m. Executive Session (CLOSED)

1:00 p.m.-4:45 p.m. CHEXS Review (OPEN)

4:45 p.m.-6:00 p.m. Executive Session (CLOSED)

Wednesday, October 26, 2022

8:30 a.m.-11:00 a.m. HMF Review (OPEN)

11:00 a.m.-11:45 a.m. Executive Sessions (CLOSED)

11:45 a.m.-1:30 p.m. HMF Review (OPEN)

1:30 p.m.-6:00 p.m. Executive Session (CLOSED)

Thursday, October 27, 2022

8:30 a.m.-1:00 p.m. Executive Session (CLOSED)

Reason for Closing: The work being reviewed during closed portions of the hybrid site visit include information of a proprietary or confidential nature, including technical information; financial data, such as salaries and personal information concerning individuals associated with the project. These matters are exempt under 5 U.S.C. 552b(c), (4) and (6) of the Government in the Sunshine Act.

Dated: September 28, 2022.
Crystal Robinson,
Committee Management Officer.

[FR Doc. 2022-21379 Filed 9-30-22; 8:45 am]

BILLING CODE 7555-01-P